DEPARTMENT OF DEFENSE

Department of the Navy

Record of Decision for the Advanced Amphibious Assault Vehicle at Marine Corps Base Camp Pendleton, California

AGENCY: Department of the Navy, DOD.

ACTION: Notice of record of decision.

SUMMARY: The Department of the Navy pursuant to section 102(2)(c) of the National Environmental Policy Act (NEPA) and its implementing regulations (40 CFR parts 1500-1508) announces its decision to replace the amphibious assault vehicle (AAV) with the advanced amphibious assault vehicle (AAAV) at Marine Corps Base (MCB) Camp Pendleton, California, and construct new and modify existing facilities at MCB Camp Pendleton to support the AAAV.

ADDRESSES: A copy of the Environmental Impact Statement (EIS) addressing this decision may be obtained from Commander, Southwest Division, Naval Facilities Engineering Command, Attn: Lisa Seneca, Code 5 CPR.LS, 1220 Pacific Highway, San Diego, California 92132-5190.

FOR FURTHER INFORMATION CONTACT: Ms. Lisa Seneca, telephone (619)-532-4744.

SUPPLEMENTARY INFORMATION: The United States Marine Corps is developing the AAAV to replace the AAV as its primary combat vehicle for transporting troops on land, at sea, and from ship to shore. The AAAV is designed to provide increased capabilities compared to the AAV and seamlessly link maneuver from ships and maneuver ashore, thus allowing the Marine Corps and Navy to more effectively implement Operational Maneuver From The Sea.

The proposed action comprises two distinct and related components at MCB Camp Pendleton. The first component is the fielding of the AAAV at MCB Camp Pendleton, CA, which involves replacement of 270 existing active field AAVs with 224 new AAAVs at MCB Camp Pendleton in the First Marine Expeditionary Force and supporting establishment. Of the 224 AAAVs, 214 will be fielded to the Operating Forces as active field vehicles and 10 will be maintained as Depot Maintenance Float Activity life-cycle support vehicles (i.e., not part of the active fleet, but can be used should an active vehicle be rendered inoperative). The 3rd Assault Amphibian Battalion (3rd AA Bn) will receive 161 AAAVs, the Assault Amphibian School Battalion will receive 46 AAAVs, and the Amphibious Vehicle Test Branch (AVTB) will receive 7 AAAVs. The AAV will be gradually replaced by the AAAV. Vehicle replacement is estimated to start in fiscal year 2007 and continue through 2017. Upon full implementation, the proposed action will result in the fielding of 56 fewer active amphibious vehicles at MCB Camp Pendleton, which equates to a 21 percent reduction in the number of vehicles.

Training exercises using the AAAVs will be conducted at MCB Camp Pendleton in existing mechanized maneuver areas, ranges, and other training areas currently used by the AAVs. The mechanized maneuver areas represent areas of concentrated training. In the mechanized maneuver areas, AAAVs will be authorized to maneuver in off-road areas in accordance with applicable laws governing environmental protection. Existing transit routes currently used by AAVs will be used by AAAVs to access mechanized maneuver areas and ranges. The ocean training area will be extended seaward from 3 nm (4 miles (6 km)) up to approximately 25 nm (29 miles (46 km)) from MCB Camp Pendleton beaches to conduct AAAV over-the-horizon training exercises.

The second component of the proposed action is demolition of existing AAV training and maintenance facilities and construction of an Advanced Amphibious Assault Vehicle Consolidated Training, Maintenance, and Headquarters Complex. The 3rd AA Bn maintenance facility will be replaced and AVTB facilities will also be modified and replaced. The existing 3rd AA Bn maintenance building will remain in place, but the existing supply building will be demolished and replaced. The proposed demolition, construction, and modification of facilities will occur in the Del Mar Basin area of MCB Camp Pendleton.

Training activities at the San Clemente Island Range Complex (SCIRC) were considered as part of the proposed action. These training exercises would involve the use of AAAVs in the same areas on land (e.g., the authorized tracked-vehicle maneuver road, tracked-vehicle maneuver areas, and existing transit routes within the Shore Bombardment Area (SHOBA)) and at sea (e.g., SHOBA) currently utilized by the AAVs. Also, AAAVs would conduct over-the-horizon exercises. The Department of the Navy is preparing an EIS/Overseas EIS (OEIS) for the use and management of SCIRC. Any decision regarding the use of SCIRC by the AAAV is being deferred until completion of the SCIRC EIS/OEIS. Accordingly, while AAAV training is proposed at SCIRC, no decision regarding this training is being made in this Record Of Decision. The proposed action and the associated environmental impact analysis presented in the AAAV EIS will be fully incorporated into the SCIRC EIS/OEIS and Biological Assessment. The AAAV will follow all requirements resulting from the SCIRC EIS/OEIS NEPA process, the consultation between Navy and U.S. Fish and Wildlife Service (USFWS) associated with the SCIRC EIS/OEIS NEPA process, and the SCIRC Integrated Natural Resource Management Plan. The SCIRC EIS/OEIS will provide a complete evaluation of SCIRC beach landing operations conducted by a variety of vehicles including the AAAV. In addition, an evaluation of issues related to erosion associated with proposed operations and training will be included in the SCIRC EIS/OEIS. Finally, the SCIRC project section 7 consultation will address the use of maneuver areas (by all vehicles) identified in the AAAV EIS and will formalize the scheduling of SHOBA for environmental management.

The Marine Corps prepared an EIS to evaluate the direct, indirect, and cumulative impacts associated with implementation of the proposed action that is the subject of the present decision. Alternatives evaluated in the EIS included the proposed action and the no-action alternative.

Under the no-action alternative, the fielding of the AAAV and the demolition, modification, and construction of maintenance and training facilities at MCB Camp Pendleton would not occur. AAAV training exercises would not be conducted at SCIRC. The use of the AAV fleet would be continued at MCB Camp Pendleton and SCIRC. However, the continued use of the AAV would not meet the purpose of and need for the proposed action and would not satisfy the need for the newer technology required to meet the mission of the Department of the Navy. It has been determined that the proposed action is the preferred alternative.

Impacts to archeological resources at MCB Camp Pendleton associated with training and operations in the mechanized maneuver areas would be potentially significant. To mitigate this impact, the Marine Corps will complete a cultural resource inventory of the mechanized maneuver areas pursuant to a multi-year condition assessment, site monitoring, and effects treatment plan. The California State Historic Preservation Officer approved this Plan. MCB Camp Pendleton supports 18 species Federally listed as threatened or endangered. Pursuant to the Endangered Species Act, the Marine Corps consulted with USFWS and National Oceanic and Atmospheric Administration's Fisheries Service (NOAA Fisheries). These agencies issued a biological opinion (USFWS) and a letter (NOAA Fisheries) in support of AAAV training at Camp Pendleton. The Marine Corps will conduct training in accordance with the provisions of the biological opinion and letter, copies of which are included in the final EIS. Under the Clean Air Act General Conformity rule, the emissions caused by the proposed action would be below de minimis levels and would not be regionally significant. Therefore, the Marine Corps has determined that the proposed action will conform with the State Implementation Plan. The Marine Corps has determined and the California Coastal Commission concurred that the proposed action will be consistent with the State Coastal Zone Management Plan.

The draft EIS was provided to the public for a 53-day review period. During this period three comment letters were received from U.S. Environmental Protection Agency, U.S. Department of Interior, and San Diego County Archaeological Society. The U.S. Environmental Protection Agency submitted comments primarily on air and water quality concerns. The U.S. Department of Interior submitted comments primarily on the use of SCIRC and sensitive biological resources potentially affected at MCB Camp Pendleton. These comments were addressed in the final EIS, which was distributed to the public on May 9, 2003, for a 30-day public review period. During this period, one letter was received from the California Department of Toxic Substances Control. Their concerns involved compliance with appropriate laws and regulations governing hazardous substances. The final EIS addresses these issues in detail and appropriate regulations governing hazardous substances will be followed during construction activities. In addition, USFWS verbally requested clarification of how unresolved issues for the AAAV on SCIRC would be resolved. As discussed in the final EIS, AAAV training would be conducted in accordance with protocols developed during preparation of the SCIRC EIS/OEIS.

On behalf of the Department of the Navy, I have decided to implement introduction of the AAAV at MCB Camp Pendleton, including construction of associated support facilities. In making this decision I considered the requirements of the Marine Corps, the potential environmental impacts of this action, social and economic concerns, and other comments received during the EIS process. All practicable means to avoid or minimize environmental harm from implementing introduction of the AAAV at MCB Camp Pendleton have been adopted. After carefully weighing all of these factors I have determined that introduction of the vehicle at MCB Camp Pendleton best meets the requirements of the proposed action.

Dated: June 18, 2003.
Wayne Arny,
Deputy Assistant Secretary of the Navy (Installations and Facilities).

[FR Doc. 03-16069 Filed 6-24-03; 8:45 am]

BILLING CODE 3810-FF-P